DEPARTMENT OF ENERGY

[Certification Notice—221]

Notice of Filings of Self-Certifications of Coal Capability Under the Powerplant and Industrial Fuel Use Act

AGENCY: Office Electricity Delivery and Energy Reliability, DOE.

ACTION: Notice of Filings.

SUMMARY: The owners of three new base load electric powerplants submitted coal capability self-certifications to the Department of Energy (DOE) pursuant to section 201(d) of the Powerplant and Industrial Fuel Use Act of 1978 (FUA), as amended, and DOE regulations in 10 CFR 501.60, 61. Section 201(d) of FUA requires DOE to publish a notice of receipt of self-certifications in the Federal Register.

ADDRESSES: Copies of coal capability self-certification filings are available for public inspection, upon request, in the Office of Electricity Delivery and Energy Reliability, Mail Code OE-20, Room 8G-024, Forrestal Building, 1000 Independence Avenue, SW., Washington, DC 20585.

FOR FURTHER INFORMATION CONTACT: Christopher Lawrence at (202) 586-5260.

SUPPLEMENTARY INFORMATION: Title II of FUA, as amended (42 U.S.C. 8301 et seq.), provides that no new base load electric powerplant may be constructed or operated without the capability to use coal or another alternate fuel as a primary energy source.

Pursuant to FUA section 201(d), in order to meet the requirement of coal capability, the owner or operator of such a facility proposing to use natural gas or petroleum as its primary energy source shall certify to the Secretary of Energy (Secretary) prior to construction, or prior to operation as a base load electric powerplant, that such powerplant has the capability to use coal or another alternate fuel. Such certification establishes compliance with FUA section 201(a) as of the date it is filed with the Secretary. The Secretary is required to publish a notice in the Federal Register reciting that the certification has been filed.

The following owners of proposed new base load electric powerplants have filed self-certifications of coal-capability with DOE pursuant to FUA section 201(d) and in accordance with DOE regulations in 10 CFR 501.60, 61:

Owner: Los Esteros Critical Energy Facility, LLC.

Capacity: 307 megawatts (MW).

Plant Location: Santa Clara County, California.

In-Service Date: June 2013.

Owner: Russell City Energy Company, LLC.

Capacity: 620 megawatts (MW).

Plant Location: City of Hayward, California.

In-Service Date: June 2013.

Owner: El Segundo Energy Center LLC.

Capacity: 550 megawatts (MW).

Plant Location: City of El Segundo, Los Angeles County, California.

In-Service Date: June 2013.

Issued in Washington, DC on August 2, 2011.
Anthony J. Como,
Director, Permitting and Siting, Office of Electricity Delivery and Energy Reliability.

[FR Doc. 2011-20123 Filed 8-8-11; 8:45 am]

BILLING CODE 6450-01-P